SUSQUEHANNA RIVER BASIN COMMISSION

Public Hearing

AGENCY: Susquehanna River Basin Commission.

ACTION: Notice.

SUMMARY: The Susquehanna River Basin Commission will hold a public hearing on May 10, 2012, in Harrisburg, Pennsylvania. At this public hearing, the Commission will hear testimony on the projects listed in the Supplementary Information section of this notice. Such projects are intended to be scheduled for Commission action at its next business meeting, tentatively scheduled for June 7, 2012, which will be noticed separately. The Commission will also hear testimony on: (1) Amending its Regulatory Program Fee Schedule; (2) amending its Records Processing Fee Schedule; and (3) amending the Comprehensive Plan for the Water Resources of the Susquehanna River Basin. The public should take note that this public hearing will be the only opportunity to offer oral comment to the Commission for the listed projects and other items. The deadline for the submission of written comments is May 21, 2012.

DATES: The public hearing will convene on May 10, 2012, at 2:30 p.m. The deadline for the submission of written comments is May 21, 2012.

ADDRESSES: The public hearing will be conducted at the Pennsylvania State Capitol, Room 8E-B, East Wing, Commonwealth Avenue, Harrisburg, Pa.

FOR FURTHER INFORMATION CONTACT: Richard A. Cairo, General Counsel, telephone: (717) 238-0423, ext. 306; fax: (717) 238-2436.

The proposed fee schedules and draft resolution on the amendments to the comprehensive plan can be accessed on the Commission's Web site at http://www.srbc.net/pubinfo/publicparticipation.htm, or by contacting the Commission to receive a copy by first-class mail. Information concerning the applications for these projects is available at the SRBC Water Resource Portal at www.srbc.net/wrp. Materials and supporting documents are available to inspect and copy in accordance with the Commission's Access to Records Policy at www.srbc.net/pubinfo/docs/2009-02%20Access%20to%20Records%20Policy%209-10-09.PDF.

Opportunity to Appear and Comment: Interested parties may appear at the hearing to offer comments to the Commission on any project or other items listed above. The presiding officer reserves the right to limit oral statements in the interest of time and to otherwise control the course of the hearing. Ground rules will be posted on the Commission's Web site, www.srbc.net, prior to the hearing for review. The presiding officer reserves the right to modify or supplement such rules at the hearing. Written comments on any project or other items listed above may also be mailed to Mr. Richard Cairo, General Counsel, Susquehanna River Basin Commission, 1721 North Front Street, Harrisburg, Pa. 17102-2391, or submitted electronically through http://www.srbc.net/pubinfo/publicparticipation.htm. Comments mailed or electronically submitted must be received by the Commission on or before May 21, 2012, to be considered.

SUPPLEMENTARY INFORMATION: The public hearing will cover: (1) Amendment to its Regulatory Program Fee Schedule; (2) amendment to its Records Processing Fee Schedule; and (3) amendment to the Comprehensive Plan for the Water Resources of the Susquehanna River Basin. Each June before the start of the next fiscal year on July 1, the Commission considers amendments to fee schedules and the comprehensive plan.

The public hearing will also cover the following projects:

Projects for Rescission Action

1. Project Sponsor and Facility: BAE Systems Controls, Town of Union, Broome County, N.Y. (Docket No. 20030802).

2. Project Sponsor: Hawk Valley, Inc. Project Facility: Hawk Valley Golf Club, Brecknock Township, Lancaster County, Pa. (Docket No. 20000402).

Projects for Action

1. Project Sponsor and Facility: Anadarko E&P Company LP (West Branch Susquehanna River), Piatt Township, Lycoming County, Pa. Application for surface water withdrawal of up to 1.500 mgd (peak day).

2. Project Sponsor: Aqua Pennsylvania, Inc. Project Facility: Eagle Rock Utilities, Black Creek Township, Luzerne County, and Hazle Township, Schuylkill County, Pa. Application for groundwater withdrawal of up to 0.288 mgd (30-day average) from Well ER-6, located in Black Creek Township, Luzerne County.

3. Project Sponsor and Facility: Aqua Resources, Inc. (Susquehanna River), Athens Township, Bradford County, Pa. Application for surface water withdrawal of up to 0.900 mgd (peak day).

4. Project Sponsor and Facility: Aqua Infrastructure, LLC. Application for source approval of a regional water supply distribution system to natural gas operations centered in Lycoming County, Pa.

5. Project Sponsor and Facility: Carrizo (Marcellus), LLC (Clearfield Creek), Reade Township, Cambria County, Pa. Application for surface water withdrawal of up to 1.152 mgd (peak day).

6. Project Sponsor and Facility: Empire Kosher Poultry, Inc., Walker Township, Juniata County, Pa. Modification to increase total groundwater system withdrawal by an additional 0.499 mgd, for a total of 1.269 mgd (30-day average) (Docket No. 20030809).

7. Project Sponsor and Facility: Jo Jo Oil Company, Inc. (Tunkhannock Creek), Tunkhannock Township, Wyoming County, Pa. Application for surface water withdrawal of up to 0.999 mgd (peak day).

8. Project Sponsor and Facility: LDG Innovations, LLC (Tioga River), Lawrenceville Borough, Tioga County, Pa. Modification to increase surface water withdrawal by an additional 0.375 mgd, for a total of 0.750 mgd (peak day) (Docket No. 20100311).

9. Project Sponsor and Facility: LHP Management, LLC (Muncy Creek), Muncy Creek Township, Lycoming County, Pa. Application for surface water withdrawal of up to 0.999 mgd (peak day).

10. Project Sponsor and Facility: LHP Management, LLC (West Branch Susquehanna River), Muncy Creek Township, Lycoming County, Pa. Application for surface water withdrawal of up to 3.000 mgd (peak day).

11. Project Sponsor and Facility: Mountain Country Energy Services, Inc. (Driftwood Branch Sinnemahoning Creek), Lumber Township, Cameron County, Pa. Request for extension of Docket No. 20081213.

12. Project Sponsor and Facility: Niagara Gas & Oil Services Inc. (Susquehanna River), Athens Township, Bradford County, Pa. Application for surface water withdrawal of up to 0.999 mgd (peak day).

13. Project Sponsor and Facility: Northeast Natural Energy LLC (West Branch Susquehanna River), Cooper Township, Clearfield County, Pa. Application for surface water withdrawal of up to 0.500 mgd (peak day).

14. Project Sponsor and Facility: Northwestern Lancaster County Authority, Penn Township, Lancaster County, Pa. Application for groundwater withdrawal of up to 0.324 mgd (30-day average) from Well 2.

15. Project Sponsor and Facility: Northwestern Lancaster County Authority, Penn Township, Lancaster County, Pa. Application for groundwater withdrawal of up to 1.000 mgd (30-day average) from Well 3.

16. Project Sponsor and Facility: OTT North East Services, LLC (Starrucca Creek), Harmony Township, Susquehanna County, Pa. Application for surface water withdrawal of up to 0.480 mgd (peak day).

17. Project Sponsor and Facility: Rausch Creek Land, L.P., Porter Township, Schuylkill County, Pa. Application for groundwater withdrawal of up to 0.100 mgd (30-day average) from Pit #21.

18. Project Sponsor and Facility: RES Coal LLC (Clearfield Creek), Boggs Township, Clearfield County, Pa. Application for surface water withdrawal of up to 0.306 mgd (peak day).

19. Project Sponsor and Facility: RES Coal LLC, Boggs Township, Clearfield County, Pa. Application for consumptive water use of up to 0.275 mgd (30-day average).

20. Project Sponsor and Facility: Roger D. Jarrett (West Branch Susquehanna River), Muncy Creek Township, Lycoming County, Pa. Application for surface water withdrawal of up to 3.000 mgd (peak day).

21. Project Sponsor and Facility: Southwestern Energy Production Company (East Branch Tunkhannock Creek), Lenox Township, Susquehanna County, Pa. Application for surface water withdrawal of up to 1.500 mgd (peak day).

22. Project Sponsor and Facility: SWEPI LP (Chemung River), Town of Big Flats, Chemung County, N.Y. Application for renewal of surface water withdrawal of up to 0.107 mgd (peak day) (Docket No. 20080604).

23. Project Sponsor and Facility: SWEPI LP (Cowanesque River), Lawrence Township, Tioga County, Pa. Application for surface water withdrawal of up to 0.942 mgd (peak day).

24. Project Sponsor and Facility: SWEPI LP (Tioga River—Tioga Junction), Lawrence Township, Tioga County, Pa. Application for renewal of surface water withdrawal of up to 0.107 mgd (peak day) (Docket No. 20080606).

25. Project Sponsor and Facility: Talisman Energy USA Inc. (Chemung River), Town of Chemung, Chemung County, N.Y. Application for modification and renewal of surface water withdrawal of up to 2.000 mgd (peak day) (Docket No. 20080605).

26. Project Sponsor and Facility: Tennessee Gas Pipeline Company (Susquehanna River), Asylum Township, Bradford County, Pa. Application for surface water withdrawal of up to 1.080 mgd (peak day).

27. Project Sponsor and Facility: Tennessee Gas Pipeline Company, Asylum Township, Bradford County, Pa. Application for consumptive water use of up to 0.030 mgd (30-day average).

28. Project Sponsor: Viking Energy of Northumberland, LLC. Project Facility: Power Plant, Point Township, Northumberland County, Pa. Application for renewal of consumptive water use of up to 0.387 mgd (peak day) (Docket No. 19870301).

29. Project Sponsor: Viking Energy of Northumberland, LLC. Project Facility: Power Plant, Point Township, Northumberland County, Pa. Application for renewal of groundwater withdrawal of up to 0.172 mgd from Well 1, and a total system withdrawal limit of up to 0.391 mgd (30-day average) (Docket No. 19870301).

30. Project Sponsor: Viking Energy of Northumberland, LLC. Project Facility: Power Plant, Point Township, Northumberland County, Pa. Application for renewal of groundwater withdrawal of up to 0.172 mgd from Well 2, and a total system withdrawal limit of up to 0.391 mgd (30-day average) (Docket No. 19870301).

31. Project Sponsor: Viking Energy of Northumberland, LLC. Project Facility: Power Plant, Point Township, Northumberland County, Pa. Application for renewal of groundwater withdrawal of up to 0.172 mgd from Well 4, and a total system withdrawal limit of up to 0.391 mgd (30-day average) (Docket No. 19870301).

32. Project Sponsor and Facility: WPX Energy Appalachia, LLC (North Branch Wyalusing Creek), Middletown Township, Susquehanna County, Pa. Application for surface water withdrawal of up to 0.750 mgd (peak day).

Authority: Public Law 91-575, 84 Stat. 1509 et seq., 18 CFR Parts 806-808.

Dated: April 5, 2012.
Thomas W. Beauduy,
Deputy Executive Director.

[FR Doc. 2012-9348 Filed 4-17-12; 8:45 am]

BILLING CODE 7040-01-P